DEPARTMENT OF TRANSPORTATION

Maritime Administration

46 CFR Part 296

[Docket No. MARAD-2004-18489]

RIN 2133-AB62

Maritime Security Program

Correction

In rule document 05-18678 beginning on page 55581 in the issue of Thursday, September 22, 2005, make the following correction:

§296.11 [Corrected]

On page 55592, in §296.11, in the second column, in paragraph (c)(3), in the fith and sixth lines, “(see 49 CFR Chapter I)” should read “(see 47 CFR Chapter I)”.

[FR Doc. C5-18678 Filed 10-11-05; 8:45 am]

BILLING CODE 1505-01-D